FEDERAL COMMUNICATIONS COMMISSION

Notice of Public Information Collection(s) Being Reviewed by the Federal Communications Commission, Comments Requested

January 16, 2009.

SUMMARY: The Federal Communications Commissions (Commission or FCC), as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 27, 2009. If you anticipate that you will be submitting comments, but find it difficult to do so within the period of time allowed by this notice, you should advise the contact listed below as soon as possible.

ADDRESSES: You may submit your PRA comments to Nicholas F. Fraser, Office of Management and Budget, via Internet at Nicholas_A._Fraser@omb.eop.gov or via fax at (202) 395-5167 and to Cathy Williams, Federal Communications Commission, via Internet at PRA@fcc.gov. Include in the e-mail the OMB control number of the collection or if there is no OMB control number, the Title shown in the SUPPLEMENTARY INFORMATION section below. If you cannot submit your comment by e-mail contact the person listed below to make alternate arrangements.

FOR FURTHER INFORMATION CONTACT: For additional information about the information collection(s) send an e-mail to PRA@fcc.gov or contact Cathy Williams at (202) 418-2918.

SUPPLEMENTARY INFORMATION: OMB Control Number: 3060-XXXX.

Title: Cable Subscribership Survey.

Form Number: Not applicable.

Type of Review: New Information Collection.

Respondents: Business or other for-profit entities; State, Local or Tribal Government.

Number of Respondents: 6,600.

Number of Responses: 13,200.

Estimated Time per Response: 2 hours per response.

Frequency of Response: One time reporting requirement.

Total Annual Burden: 26,400 hours.

Total Annual Cost: $1,320,000.

Obligation To Respond: Mandatory. The statutory authority for this information collection is contained in section 612(g) of the Communications Act of 1934, as amended, 47 U.S.C. 532(g).

Nature and Extent of Confidentiality: There is no need for confidentiality with this collection of information. However, the Commission made special provisions for operators that would like to withhold their information from public inspection. Operators who wish to request that their information be withheld from public inspection must submit the request pursuant to 47 CFR 0.459 in a letter addressed to the Secretary, and state the fields to which the request applies. They also should provide a complete explanation of why such treatment is appropriate, pursuant to 47 CFR 0.459(c), as casual requests will not be considered.

Privacy Impact Assessment: No impact(s).

Needs and Uses: Section 612(g) of the Communications Act, 47 CFR 532(g), states that: (1) “At such time as cable systems with 36 or more activated channels are available to 70 percent of households within the United States” and (2) “are subscribed to by 70 percent of the households to which such systems are available, the Commission may promulgate any additional rules necessary to provide diversity of information sources.” Although there is no disagreement that the first prong of the 70/70 test has been met, the question of whether the second prong has been met is less clear. One data source that the Commission has traditionally relied on shows that the second prong of the 70/70 test has been met. However, other data sources do not demonstrate that the second prong has been met. The available data sources have some limitations because the reported cable penetration rates are not calculated from a complete census of cable systems. The only way to accurately conclude that the 70/70 test has been met is to have the entire cable industry provide to the Commission the data for all cable systems. Specifically, we will require each cable operator to provide for 2006 and 2007 for each cable system on a zip code basis: (1) The total number of homes the cable operator currently passes; (2) the total number of homes the cable operator currently passes with 36 or more activated channels; (3) the total number of actual subscribers, including all subscribers in multiple dwelling units (MDUs); and (4) the total number of subscribers to systems with 36 or more activated channels. The submitted information will allow the Commission to calculate the 70/70 test for the entire universe of cable systems, which will be more accurate than relying on the available sample statistics.

A cable operator may certify to the Commission that it does not possess the requested information for calendar year 2006 and that it is not possible for the operator to compile such data for calendar year 2006. The Commission will provide cable operators that do not possess 2006 data with a certification form to be signed, dated, and returned to the Commission. This form will not impose any additional burden on cable operators.

Federal Communications Commission.
Marlene H. Dortch,
Secretary.

[FR Doc. E9-1626 Filed 1-23-09; 8:45 am]

BILLING CODE 6712-01-P